SUSQUEHANNA RIVER BASIN COMMISSION

Notice of Actions Taken at March 14, 2007 Meeting

AGENCY: Susquehanna River Basin Commission

ACTION: Notice of Commission Actions.

SUMMARY: At a public hearing held on March 14, 2007 in Altoona, Pa., the Susquehanna River Basin Commission approved certain water resources projects and rescinded three docket approvals identified in the Supplementary Information section below. In addition, the Commission tabled a show cause enforcement proceeding and rescheduled the proceeding for the June 2007 Commission meeting. In other meeting action, the Commission adopted a 2007 Water Resources Program pursuant to Section 14.2 of the Susquehanna River Basin Compact and approved revisions to its FY 2008 budget, Pub. L. 91-575. For further meeting details, visit the Commission's Web site at http://www.srbc.net.

DATES: March 14, 2007.

ADDRESSES: Susquehanna River Basin Commission, 1721 N. Front Street, Harrisburg, PA 17102-2391.

FOR FURTHER INFORMATION CONTACT: Richard A. Cairo, General Counsel, telephone: (717) 238-0423; ext. 306; fax: (717) 238-2436; e-mail: rcairo@src.net or Deborah J. Dickey, Secretary to the Commission, telephone: (717) 238-0423, ext. 301; fax: (717) 238-2436; e-mail: ddickey@srbc.net. Regular mail inquiries may be sent to the above address.

SUPPLEMENTARY INFORMATION: At a public hearing on March 14, 2007, the Susquehanna River Basin Commission took the following actions:

Public Hearing —Projects Approved

1. Project Sponsor & Facility: Osram Sylvania Products, Inc., Towanda Borough, Bradford County, Pa. Modification of consumptive water use approval (Docket No. 19970502).

2. Project Sponsor & Facility: Conyngham Borough Authority, Conyngham Borough, Luzerne County, Pa. Application for groundwater withdrawal of up to 0.216 mgd.

3. Project Sponsor: The County of Lycoming. Project Facility: Lycoming County Resource Management Services, Brady Township, Lycoming County, Pa. Application for consumptive water use of up to 0.105 mgd.

4. Project Sponsor & Facility: Mount Union Municipal Authority, Wayne Township, Mifflin County, Pa. Application for groundwater withdrawal of up to 0.432 mgd.

5. Project Sponsor & Facility: Commonwealth Environmental Systems, L.P., Foster Township, Schuylkill County, Pa. Application for consumptive water use of up to 0.030 mgd.

6. Project Sponsor & Facility: Shippensburg Borough Authority, Southampton Township, Cumberland County, Pa. Application for groundwater withdrawal of up to 2.000 mgd.

7. Project Sponsor: Lancaster County Solid Waste Management Authority. Project Facility: Frey Farm and Creswell Landfills, Manor Township, Lancaster County, Pa. Modification of consumptive water use approval (Docket No. 20061208).

8. Project Sponsor: Delta Borough. Project Facility: Delta Ridge Subdivision, Peach Bottom Township, York County, Pa. Application for groundwater withdrawal of up to 0./ mgd.

Public Hearing—Projects Rescinded

1. Project Sponsor & Facility: Frito-Lay, Inc. (Docket No. 20020201), Johnson City, Broome County, NY.

2. Project Sponsor: Corning Incorporated. Project Facility: Erwin Park Photonics (Docket No. 20031002), Town of Erwin, Steuben County, NY.

3. Project Sponsor & Facility: Union Township Municipal Authority (Docket No. 19920701), Union Township, Clearfield County, Pa.

Public Hearing—Enforcement Action Tabled

1. Project Sponsor: South Slope Development Corporation (Docket No. 19991103). Project Facility: Song Mountain Ski Resort, Town of Preble, Cortland County, NY.

Authority: Pub. L. 91-575, 84 Stat. 1509 et seq., 18 CFR Parts 806, 807, and 808.

Dated: March 28, 2007.
Thomas W. Beauduy,
Deputy Director.

[FR Doc. E7-6472 Filed 4-5-07; 8:45 am]

BILLING CODE 7040-01-P